DEPARTMENT OF COMMERCE

National Oceanic and Atmospheric Administration

[RTID 0648-XG619]

Implementation of Fish and Fish Product Import Provisions of the Marine Mammal Protection Act—Notification of Revocation of Comparability Findings and Implementation of Import Restrictions; Certification of Admissibility for Certain Fish Products From Mexico

AGENCY: National Marine Fisheries Service (NMFS), National Oceanic and Atmospheric Administration (NOAA), Commerce.

ACTION: Notice; revocation of comparability findings and implementation of import restrictions for certain fish and fish products from Mexico.

SUMMARY: Under the authority of the Marine Mammal Protection Act (MMPA), the NMFS Assistant Administrator for Fisheries (Assistant Administrator) is revoking the comparability findings for the following fisheries authorized by the Government of Mexico: Upper Gulf of California shrimp trawl fishery for both small and large vessels; Upper Gulf of California shrimp suripera fishery; Upper Gulf of California sierra purse seine fishery; Upper Gulf of California sierra hook and line fishery; Upper Gulf of California chano trawl fishery, for small vessels; Upper Gulf of California curvina purse seine fishery; and Upper Gulf of California sardine/curvina purse seine fishery for both small and large vessels. The Assistant Administrator continues the determination to deny a comparability finding for the El Golfo de Santa Clara curvina rodeo-style gillnet fishery.

DATES: Compliance with the import restrictions and Certification of Admissibility described in this document is required beginning April 3, 2020, and will remain in effect until notice is published in the Federal Register indicating otherwise.

FOR FURTHER INFORMATION CONTACT: Nina Young, at email: Nina.Young@noaa.gov or phone: 301-427-8383.

SUPPLEMENTARY INFORMATION: The MMPA, 16 U.S.C. 1371 et seq., states that the Secretary of the Treasury shall ban the importation of commercial fish or products from fish which have been caught with commercial fishing technology which results in the incidental kill or incidental serious injury of ocean mammals in excess of United States standards. For purposes of applying this import restriction, the Secretary of Commerce shall insist on reasonable proof from the government of any nation from which fish or fish products will be exported to the United States of the effects on ocean mammals of the commercial fishing technology in use for such fish or fish products exported from such nation to the United States.

NMFS bases its determination to revoke comparability findings for the specified Mexican fisheries on the lack of a regulatory program comparable in effectiveness to the U.S. regulatory program for mitigating fishery bycatch of marine mammals. Therefore, under the authority of the MMPA, the Secretary of Commerce, in cooperation with the Secretaries of Treasury and Homeland Security, is giving notice of import restrictions on fish and fish products from Mexican fisheries operating in the upper Gulf of California. The restrictions apply to fish either caught with gillnets deployed in the range of the vaquita, an endangered porpoise, or harvested in the fisheries listed above. Harmonized Tariff Schedule (HTS) codes associated with the prohibited fish and fish products are identified below. NMFS is also requiring that all other fish and fish products not within the scope of the import restrictions but imported under the same published HTS codes be accompanied by a Certification of Admissibility.

Background

On August 15, 2016, NMFS published a final rule (81 FR 54389) amending the fish and fish product import provisions to implement Section 101(a)(2) of the MMPA (see implementing regulations at 50 CFR 216.24(h)). This final rule established conditions for evaluating a harvesting nation's regulatory programs to address incidental and intentional mortality and serious injury of marine mammals in its commercial fisheries producing fish and fish products exported to the United States.

Under the final rule, fish or fish products cannot be imported into the United States from commercial fishing operations that result in the incidental mortality or serious injury of marine mammals in excess of U.S. standards (16 U.S.C. 1371(a)(2)). NMFS published a List of Foreign Fisheries (LOFF) on March 16, 2018 (83 FR 11703) to classify fisheries subject to the import requirements. Effective January 1, 2022, fish and fish products from fisheries identified by the Assistant Administrator in the LOFF can only be imported into the United States if the harvesting nation has applied for and received a comparability finding from NMFS for those fisheries. The rule established the procedures that a harvesting nation must follow, and the conditions it must meet, to receive a comparability finding for a fishery on the LOFF. The final rule established a five-year exemption period, ending January 1, 2022, before imports would be subject to any trade restrictions (see 50 CFR 216.24(h)(2)(ii)).

Vaquita are listed as an endangered species under the U.S. Endangered Species Act, 16 U.S.C. 1531 et seq., and are endemic to northern Gulf of California waters in Mexico. In 2018, the International Committee for the Recovery of the Vaquita (CIRVA)—a group of international scientists supported by Mexico and led by Mexican scientists—estimated that fewer than 22 individuals remain. Gillnets used to illegally fish for totoaba (an endangered fish also endemic to the Gulf of California) are the direct primary source of current vaquita mortality and continue to be deployed to supply China's black-market demand for totoaba swim bladders.

On May 18, 2017, Natural Resources Defense Council (NRDC), Center for Biological Diversity (CBD), and the Animal Welfare Institute (AWI) petitioned the Secretaries of Homeland Security, the Treasury, and Commerce to “ban the importation of commercial fish or products from fish” sourced using fishing activities that “result in the incidental mortality or incidental serious injury” of vaquita “in excess of United States standards.” The petitioners requested that the Secretaries immediately ban imports of all fish and fish products from Mexico that do not satisfy the MMPA import provision requirements, claiming that emergency action banning such imports is necessary to avoid immediate, ongoing, and “unacceptable risks” to vaquita. NMFS published a notice of the petition's receipt on August 22, 2017 (82 FR 39732), in the Federal Register for a 60-day comment period.

On December 21, 2017, the petitioners filed suit in the United States District Court for the District of Columbia, which among other things challenged the failure of NMFS, the U.S. Department of Commerce, the U.S. Department of the Treasury, and the U.S. Department of Homeland Security (“Defendants”) to respond to the petition pursuant to the Administrative Procedure Act (“APA”) (5 U.S.C. 551-559; 701-706). On March 21, 2018, the petitioners filed suit before the Court of International Trade seeking an injunction requiring the U.S. Government to ban the import of fish or fish products from any Mexican commercial fishery that uses gillnets within the vaquita's range. On April 16, 2018, Petitioners filed a motion for a preliminary injunction on which oral argument was held on July 10, 2018. The Court of International Trade granted the motion for preliminary injunction and denied the U.S. Government's motion to dismiss the lawsuit. On July 26, 2018, and August 14, 2018, the Court of International Trade (CIT) (Slip-Op 18-92) required the U.S. Government to ban all fish and fish products from Mexican commercial fisheries that use gillnets within the vaquita's range, pending final adjudication of the merits. This ban includes the importation from Mexico of all shrimp, curvina, sierra, and chano fish and their products caught with gillnets inside the vaquita's range. To effect this court order, NMFS published a Federal Register notice on August 28, 2018 (83 FR 43792), giving notice of import restrictions on fish and fish products from Mexico caught with gillnets deployed in the range of the vaquita. In that notice, NMFS also stipulated requirements that all other fish and fish products not within the scope of the import restrictions but imported under the Harmonized Tariff Schedule (HTS) codes associated with the prohibited fish and fish products be accompanied by a Certification of Admissibility in accordance with the provisions of 50 CFR 216.24(h)(9).

On November 9, 2018, the Government of Mexico requested that the Assistant Administrator make comparability findings based upon documentary evidence provided by the Government of Mexico for the Upper Gulf of California shrimp trawl fishery for both small and large vessels; Upper Gulf of California shrimp suripera ¹ fishery; Upper Gulf of California sierra purse seine fishery; Upper Gulf of California sierra hook and line fishery; Upper Gulf of California chano trawl fishery, for small vessels; Upper Gulf of California curvina purse seine fishery; Upper Gulf of California sardine/curvina purse seine fishery for both small and large vessels; and El Golfo de Santa Clara curvina rodeo-style gillnet fishery. As stated in the final rule (81 FR 54397, August 15, 2016), nothing within the procedures set forth in 50 CFR 216.24(h) prevents a nation from implementing a bycatch reduction regulatory program and seeking a comparability finding during the five-year exemption period (see 50 CFR 216.24(h)(2)(ii)).

¹ Suripera nets rely on utilizing the movement of the wind and water currents to draw shrimp into a small-mesh modified cast net.

On December 6, 2018, NMFS, under the authority of the MMPA, issued comparability findings for the following Government of Mexico's authorized fisheries in the Upper Gulf of California: Shrimp trawl fishery for both small and large vessels; shrimp suripera fishery; sierra purse seine fishery; sierra hook and line fishery; chano trawl fishery, for small vessels; curvina purse seine fishery; and sardine/curvina purse seine fishery for both small and large vessels. On that same date, NMFS denied a comparability finding for the El Golfo de Santa Clara curvina rodeo-style gillnet fishery in accordance with 50 CFR 216.24(h)(9).

Revocation of the Comparability Finding

On April 8, 2019, NMFS notified the Government of Mexico that it had failed to put in place and implement a regulatory program to effectuate the regulatory improvements identified in the Plan for Improvement to the Program on the Comprehensive Care of the Upper Gulf and the Comprehensive Program for the Protection and Recovery of the Vaquita. NMFS stated that absent such a regulatory program there can be no comparability finding for the fisheries for which a comparability finding was granted. Therefore, under section 50 CFR 216.24 (h)(8)(vii), NMFS notified the Government of Mexico that it was reconsidering the comparability finding issued to the fisheries operating in the Upper Gulf of California on the basis that the Government of Mexico has failed to put in place a regulatory program comparable in effectiveness to the U.S. regulatory program for those fisheries.

The Government of Mexico has failed to implement the regulatory plan that formed the basis for the comparability findings. Furthermore, the Government of Mexico has failed to authorize (e.g., provide fishing permits) shrimp trawls for small vessels (e.g., pangas), the only legally mandated gear type for harvesting shrimp and for which a comparability finding has been made. Without this authorization, this fishery cannot legally operate, forcing fishermen to resort to illegal fishing either with gillnets (which have been banned in the shrimp fishery) or unauthorized trawl gear. Furthermore, the Government of Mexico has failed to fully implement and enforce its existing laws and regulatory regime including the existing gillnet ban, the provisions which prohibit fishing in the vaquita refuge, and inspection of fishing vessels leaving and arriving to port. In accordance with the MMPA import provisions, on September 9, 2019, NMFS notified the Government of Mexico, in writing, that it has made a preliminary finding to revoke the Government of Mexico's comparability finding for the fisheries operating in the Upper Gulf of California. The Government of Mexico again failed to take corrective action to come into compliance by implementing the regulatory programs that had formed the basis for the original comparability findings.

In accordance with 50 CFR 216.24(h)(8)(vii), a comparability finding will be terminated or revoked if the Assistant Administrator determines that the requirements of 50 CFR 216.24(h)(6) are no longer being met. Pursuant to 50 CFR 216.24(h)(8)(vii) the Assistant Administrator has determined that Mexico's fisheries operating in the Upper Gulf of California which currently possess a comparability finding are no longer meeting the requirements of 50 CFR 216.24(h)(6). Therefore, the Assistant Administrator is revoking these comparability findings. In accordance with 50 CFR 216.24(h)(9)(ii), the Government of Mexico can reapply for a comparability finding for the affected fisheries at any time. All other exempt and export fisheries operating under the control of the Government of Mexico are still subject to the five-year exemption period under 50 CFR 216.24(h)(2)(ii). By March 1, 2021, per the requirements of 50 CFR 216.24(h)(6), the Government of Mexico, like all harvesting nations, must apply a comparability finding for all fisheries on the List of Foreign Fisheries, including those in this Federal Register Notice. By January 1, 2022 all fisheries must have a comparability finding in order to export fish and fish products from those fisheries to the United States. Also, the Government of Mexico is still required to provide a progress report in accordance with 50 CFR 216.24(h)(10) for these fisheries and all other fisheries on its List of Foreign Fisheries.

Pursuant to 50 CFR 216.24(h)(9) the U.S. government will immediately ban the importation from Mexico of all shrimp, curvina, sierra, chano, anchovy, herrings, sardines, mackerels croaker, and pilchard fish and fish products, imported under the HTS codes in Table 1, caught with gillnets inside the vaquita's range under section 101(a)(2) of the MMPA(16 U.S.C. 1371(a)(2)) or associated with the fisheries for which a comparability finding has been revoked.

Curvina, sierra, chano, and pilchard are not imported into the United States under HTS codes that are specific to the type of fish. Instead, these fish are imported under non-specific fish and marine fish codes. Consequently, the list in Table 1 includes those non-specific HTS codes necessary to encompass the range of probable codes used for products subject to the trade restriction. To allow imports of seafood outside the scope of these import restrictions, and to minimize disruptions to trade, fish and fish products of the same or similar fish or fish products imported to the United States under the HTS codes listed in Table 1 from Mexico that are not subject to these import prohibitions must be accompanied by a Certification of Admissibility. The Certification of Admissibility and accompanying instructions are available at https://www.fisheries.noaa.gov/topic/international-affairs.

As of the compliance date, imports of the fish and fish products from Mexico filed under the HTS codes listed in Table 1 are required to be accompanied by a Certification of Admissibility in order to obtain release of the inbound shipment. See DATES section for the compliance date of the requirement for Certification of Admissibility. The Certification of Admissibility is an information collection subject to the requirements of the Paperwork Reduction Act and has been approved by the Office of Management and Budget under control number 0648-0651.

Table 1—HTS Codes Requiring a Certification of Admissibility
Harmonized Tariff Schedule 2020 Codes | Product description
0302.44.0000 | Fish, fresh or chilled, excluding fish fillets and other fish meat of heading 0304: Mackerel (Scomber scombrus, Scomber australasicus, Scomber japonicus) Fresh chilled whole Atlantic and Blue/Japanese Mackerel.
0302.45.1100 | Fish, fresh or chilled, excluding fish fillets and other fish meat of heading 0304: Jack and horse mackerel (Trachurus spp): Scaled (whether or not heads, viscera and/or fins have been removed, but not otherwise processed), in immediate containers weighing with their contents 6.8 kg or less.
0302.45.5000 | Fish, fresh or chilled, excluding fish fillets and other fish meat of heading 0304: Jack and horse mackerel (Trachurus spp): Other.
0302.49.0000 | Fish, fresh or chilled, excluding fish fillets and other fish meat of heading 0304: Herrings (Clupea harengus, Clupea pallasii), anchovies (Engraulis spp.), sardines (Sardina pilchardus, Sardinops spp.), sardinella (Sardinella spp.), brisling or sprats (Sprattus sprattus), mackerel (Scomber scombrus, Scomber australasicus, Scomber japonicus), Indian mackerels (Rastrelliger spp.), seerfishes (Scomberomorus spp.), jack and horse mackerel (Trachurus spp.), jacks, crevalles (Caranx spp.), cobia (Rachycentron canadum), silver pomfrets (Pampus spp.), Pacific saury (Cololabis saira), scads (Decapterus spp.), capelin (Mallotus villosus), swordfish (Xiphias gladius), Kawakawa (Euthynnus affinis), bonitos (Sarda spp.), marlins, sailfishes, spearfish (Istiophoridae), excluding edible fish offal of subheadings 0302.91 to 0302.99: Other Fish.
0302.59.1100 | Fish, fresh or chilled, excluding fish fillets and other fish meat of heading 0304: Fish of the families Bregmacerotidae, Euclichthyidae Gadidae, Macrouridae, Melanonidae, Merlucciidae, Moridae and Muraenolepididae, excluding edible fish offal of subheadings 0302.91 to 0302.99: Other Fish: Scaled (whether or not heads, viscera and/or fins have been removed, but not otherwise processed), in immediate containers weighing with their contents 6.8 kg or less.
0302.59.5090 | Fish, fresh or chilled, excluding fish fillets and other fish meat of heading 0304: Fish of the families Bregmacerotidae, Euclichthyidae Gadidae, Macrouridae, Melanonidae, Merlucciidae, Moridae and Muraenolepididae, excluding edible fish offal of subheadings 0302.91 to 0302.99: Other Fish: Other: Other fish.
0302. 89.1140 | Fish, fresh or chilled, excluding fish fillets and other fish meat of heading 0304: Other fish, excluding edible fish offal of subheadings 0302.91 to 0302.99: Other: Scaled (whether or not heads, viscera and/or fins have been processed), in immediate containers weighing with their contents 6.8 kg or less: Other Fish.
0303.54.0000 | Fish, frozen, excluding fish fillets and other fish meat of heading 0304: Mackerel (Scomber scombrus, Scomber australasicus, Scomber japonicus).
0303.55.0000 | Fish, frozen, excluding fish fillets and other fish meat of heading 0304: Jack and horse mackerel (Trachurus spp.).
0303.59.0000 | Fish, frozen, excluding fish fillets and other fish meat of heading 0304: Other Fish.
0304.49.0190 | Fish, frozen, excluding fish fillets and other fish meat of heading 0304: Fish fillets and other fish meat (whether or not minced), fresh, chilled or frozen: Fresh or chilled fillets of other fish: Other: Other Fish.
0304.59.0091 | Fish, frozen, excluding fish fillets and other fish meat of heading 0304: Fish fillets and other fish meat (whether or not minced), fresh, chilled or frozen: Fresh or chilled fillets of other fish: Other Fish Chilled: Other.
0304.89.1090 | Fish, frozen, excluding fish fillets and other fish meat of heading 0304: Frozen fillets of other fish: Other: Skinned, whether or not divided into pieces, and frozen into blocks each weighing over 4.5 kg, imported to be minced, ground or cut into pieces of uniform weights and dimensions: Other Fish.
0304.89.5091 | Fish fillets and other fish meat (whether or not minced), fresh, chilled or frozen: Frozen fillets of other fish: Other: Other Fish.
0304.99.1104 | Fish, frozen, excluding fish fillets and other fish meat of heading 0304: Other, frozen: Other: In bulk or in immediate containers weighing with their contents over 6.8 kg each: Minced: Surimi.
0304.99.1109 | Fish, frozen, excluding fish fillets and other fish meat of heading 0304: Other, frozen: Other: In bulk or in immediate containers weighing with their contents over 6.8 kg each: Minced: Other.
0304.99.1194 | Fish, frozen, excluding fish fillets and other fish meat of heading 0304: Other, frozen: Other: In bulk or in immediate containers weighing with their contents over 6.8 kg each: Other: Other Fish.
0304.99.9190 | Fish, frozen, excluding fish fillets and other fish meat of heading 0304: Other, frozen: Other: Other: Ocean Fish.
0305.10.2000 | Fish, dried, salted or in brine; smoked fish, whether or not cooked before or during the smoking process; flours, meals and pellets of fish, fit for human consumption: Flours, meals and pellets of fish, fit for human consumption: In bulk or in immediate containers weighing with their contents over 6.8 kg each.
0305.10.4000 | Fish, dried, salted or in brine; smoked fish, whether or not cooked before or during the smoking process; flours, meals and pellets of fish, fit for human consumption: Flours, meals and pellets of fish, fit for human consumption: Other.
0305.39.4000 | Fish, dried, salted or in brine; smoked fish, whether or not cooked before or during the smoking process; flours, meals and pellets of fish, fit for human consumption: Fish fillets, dried, salted or in brine, but not smoked: Mackerel, in immediate containers weighing with their contents 6.8 kg or less each.
0305.39.6180 | Fish, dried, salted or in brine; smoked fish, whether or not cooked before or during the smoking process; flours, meals and pellets of fish, fit for human consumption: Fish fillets, dried, salted or in brine, but not smoked: Other: Other Fish.
0305.49.2000 | Fish, dried, salted or in brine; smoked fish, whether or not cooked before or during the smoking process; flours, meals and pellets of fish, fit for human consumption: Smoked fish, including fillets, other than edible fish offal: Other: Mackerel.
0305.49.4045 | Fish, dried, salted or in brine; smoked fish, whether or not cooked before or during the smoking process; flours, meals and pellets of fish, fit for human consumption: Smoked fish, including fillets, other than edible fish offal: Other: Other Fish.
0305.54.0000 | Fish, dried, salted or in brine; smoked fish, whether or not cooked before or during the smoking process; flours, meals and pellets of fish, fit for human consumption: Dried fish, other than edible fish offal, whether or not salted but not smoked: Herrings (Clupea harengus, Clupea pallasii), anchovies (Engraulis spp.), sardines (Sardina pilchardus, Sardinops spp.), sardinella (Sardinella spp.), brisling or sprats (Sprattus sprattus), mackerel (Scomber scombrus, Scomber australasicus, Scomber japonicus), Indian mackerels (Rastrelliger spp.), seerfishes (Scomberomorus spp.), jack and horse mackerel (Trachurus spp.), jacks, crevalles (Caranx spp.), cobia (Rachycentron canadum), silver pomfrets (Pampus spp.), Pacific saury (Cololabis saira), scads (Decapterus spp.), capelin (Mallotus villosus), swordfish (Xiphias gladius), Kawakawa (Euthynnus affinis), bonitos (Sarda spp.), marlins, sailfishes, spearfish (Istiophoridae).
0305.59.0001 | Fish, dried, salted or in brine; smoked fish, whether or not cooked before or during the smoking process; flours, meals and pellets of fish, fit for human consumption: Dried fish, other than edible fish offal, whether or not salted but not smoked: Other Fish.
0305.69.2000 | Fish, dried, salted or in brine; smoked fish, whether or not cooked before or during the smoking process; flours, meals and pellets of fish, fit for human consumption: Fish, salted but not dried or smoked and fish in brine, other than edible fish offal: Mackerel: In immediate containers weighing with their contents 6.8 kg or less each.
0305.69.3000 | Fish, dried, salted or in brine; smoked fish, whether or not cooked before or during the smoking process; flours, meals and pellets of fish, fit for human consumption: Fish, salted but not dried or smoked and fish in brine, other than edible fish offal: Mackerel: Other.
0305.69.5001 | Fish, dried, salted or in brine; smoked fish, whether or not cooked before or during the smoking process; flours, meals and pellets of fish, fit for human consumption: Fish, salted but not dried or smoked and fish in brine, other than edible fish offal: Other Fish: In immediate containers weighing with their contents 6.8 kg or less each.
0305.69.6001 | Fish, dried, salted or in brine; smoked fish, whether or not cooked before or during the smoking process; flours, meals and pellets of fish, fit for human consumption: Fish, salted but not dried or smoked and fish in brine, other than edible fish offal: Other Fish: Other.
0305.79.0000 | Fish, dried, salted or in brine; smoked fish, whether or not cooked before or during the smoking process; flours, meals and pellets of fish, fit for human consumption: Fish fins, heads, tails, maws and other edible fish offal: Other Fish.
0306.17.0003 | Other shrimps and prawns: Shell-on, imported in accordance with Statistical Note 1 to this chapter: Count size (headless weight) less than 33 per kg (15s).
0306.17.0006 | Other shrimps and prawns: Shell-on, imported in accordance with Statistical Note 1 to this chapter: Count size (headless weight) 33-45 per kg (15-20s).
0306.17.0009 | Other shrimps and prawns: Shell-on, imported in accordance with Statistical Note 1 to this chapter: Count size (headless weight) 46-55 per kg (21-25s).
0306.17.0012 | Other shrimps and prawns: Shell-on, imported in accordance with Statistical Note 1 to this chapter: Count size (headless weight) 56-66 per kg (26-30s).
0306.17.0015 | Other shrimps and prawns: Shell-on, imported in accordance with Statistical Note 1 to this chapter: Count size (headless weight) 67-88 per kg (31-40s).
0306.17.0018 | Other shrimps and prawns: Shell-on, imported in accordance with Statistical Note 1 to this chapter: Count size (headless weight) 89-110 per kg (41-50s).
0306.17.0021 | Other shrimps and prawns: Shell-on, imported in accordance with Statistical Note 1 to this chapter: Count size (headless weight) 111-132 per kg (51-60s).
0306.17.0024 | Other shrimps and prawns: Shell-on, imported in accordance with Statistical Note 1 to this chapter: Count size (headless weight) 133-154 per kg (61-70s).
0306.17.0027 | Other shrimps and prawns: Shell-on, imported in accordance with Statistical Note 1 to this chapter: Count size (headless weight) more than 154 per kg (70s).
0306.17.0040 | Other shrimps and prawns: Peeled, imported in accordance with statistical note 1 to this chapter.
0306.36.0020 | Other shrimps and prawns: Shell-on.
0306.36.0040 | Other shrimps and prawns: Peeled.
0306.95.0020 | Other: Shrimps and prawns: Shell-on.
0306.95.0040 | Other: Shrimps and prawns: Peeled.
0511.99.3060 | Products chiefly used as food for animals or as ingredients in such food: Other.
1604.15.0000 | Prepared or preserved fish; caviar and caviar substitutes prepared from fish eggs: Fish, whole or in pieces, but not minced: Mackerel.
1604.19.4100 | Prepared or preserved fish; caviar and caviar substitutes prepared from fish eggs: Fish, whole or in pieces, but not minced: Other (including yellowtail): Other: Fish sticks and similar products of any size or shape, fillets or other portions of fish, if breaded, coated with batter or similarly prepared: Neither cooked nor in oil.
1604.19.5100 | Prepared or preserved fish; caviar and caviar substitutes prepared from fish eggs: Fish, whole or in pieces, but not minced: Other (including yellowtail): Other: Fish sticks and similar products of any size or shape, fillets or other portions of fish, if breaded, coated with batter or similarly prepared: Other.
1604.19.6100 | Prepared or preserved fish; caviar and caviar substitutes prepared from fish eggs: Fish, whole or in pieces, but not minced: Other (including yellowtail): Other: In oil and in bulk or in immediate containers weighing with their contents over 7 kg each.
1604.19.8200 | Prepared or preserved fish; caviar and caviar substitutes prepared from fish eggs: Fish, whole or in pieces, but not minced: Other (including yellowtail): Other: Other.
1604.20.0510 | Prepared or preserved fish; caviar and caviar substitutes prepared from fish eggs: Other prepared or preserved fish: Products containing meat of crustaceans, molluscs or other aquatic invertebrates; prepared meals: Prepared meals.
1604.20.0590 | Prepared or preserved fish; caviar and caviar substitutes prepared from fish eggs: Other prepared or preserved fish: Products containing meat of crustaceans, molluscs or other aquatic invertebrates; prepared meals: Other.
1604.20.1000 | Prepared or preserved fish; Other prepared or preserved fish: Other: Pastes.
1604.20.1500 | Prepared or preserved fish; Other prepared or preserved fish: Other: Balls, cakes and puddings: In oil.
1604.20.2000 | Prepared or preserved fish; Other prepared or preserved fish: Other: Balls, cakes and puddings: Not in oil: In immediate containers weighing with their contents not over 6.8 kg each: In airtight containers.
1604.20.2500 | Prepared or preserved fish; Other prepared or preserved fish: Other: Balls, cakes and puddings: Not in oil: In immediate containers weighing with their contents not over 6.8 kg each: Other.
1604.20.3000 | Prepared or preserved fish; Other prepared or preserved fish: Other: Balls, cakes and puddings: Not in oil: Other.
1604.20.4000 | Prepared or preserved fish; Other prepared or preserved fish: Fish sticks and similar products of any size or shape, if breaded, coated with batter or similarly prepared: Neither cooked nor in oil.
1604.20.5000 | Prepared or preserved fish; Other prepared or preserved fish: Fish sticks and similar products of any size or shape, if breaded, coated with batter or similarly prepared: Other.
1604.20.5010 | Prepared or preserved fish; Other prepared or preserved fish: Fish sticks and similar products of any size or shape, if breaded, coated with batter or similarly prepared: Other: Pre-cooked and frozen.
1604.20.5090 | Prepared or preserved fish; Other prepared or preserved fish: Fish sticks and similar products of any size or shape, if breaded, coated with batter or similarly prepared: Other: Other.
1604.20.6010 | Prepared or preserved fish; Other prepared or preserved fish: Pre-cooked and frozen.
1604.20.6090 | Prepared or preserved fish; Other prepared or preserved fish: Other.
1605.21.0500 | Crustaceans, molluscs and other aquatic invertebrates, prepared or preserved: Shrimps and prawns: Not in airtight containers: Products containing fish meat; prepared meals.
1605.21.1020 | Crustaceans, molluscs and other aquatic invertebrates, prepared or preserved: Shrimps and prawns: Not in airtight containers: Other: Frozen, imported in accordance with Statistical Note 1 to this chapter: Breaded.
1605.21.1030 | Crustaceans, molluscs and other aquatic invertebrates, prepared or preserved: Shrimps and prawns: Not in airtight containers: Other: Frozen, imported in accordance with Statistical Note 1 to this chapter: Other.
1605.21.1050 | Crustaceans, molluscs and other aquatic invertebrates, prepared or preserved: Shrimps and prawns: Not in airtight containers: Other: Other, imported in accordance with Statistical Note 1 to this chapter.
1605.29.0500 | Crustaceans, molluscs and other aquatic invertebrates, prepared or preserved: Shrimps and prawns: Other: Products containing fish meat; prepared meals.
1605.29.1010 | Crustaceans, molluscs and other aquatic invertebrates, prepared or preserved: Shrimps and prawns: Other: Frozen, imported in accordance with Statistical Note 1 to this chapter.
1605.29.1040 | Crustaceans, molluscs and other aquatic invertebrates, prepared or preserved: Shrimps and prawns: Other: Other: Other, imported in accordance with Statistical Note 1 to this chapter.
2309.10.0010 | Preparations of a kind used in animal feeding: Dog or cat food, put up for retail sale: In airtight containers.
2309.10.0090 | Preparations of a kind used in animal feeding: Dog or cat food, put up for retail sale: Other.
2309.90.1015 | Preparations of a kind used in animal feeding: Other: Mixed feeds or mixed feed ingredients: Other pet food, put up for retail sale.
2309.90.1050 | Preparations of a kind used in animal feeding: Other: Mixed feeds or mixed feed ingredients: Other.

The HTS codes applicable to the products subject to the requirements of this import restriction may be revised from time to time due to updates to the HTS by the International Trade Commission. Any such changes will be notified to the trade community in accordance with CBP's notification procedures. In addition, NMFS and CBP will actively monitor the border operations of the trade restriction and the certification requirement in the initial weeks of implementation to determine if the list of affected HTS codes can be adjusted to further minimize disruption to trade while maintaining compliance with the court order and this action.

Importers are advised to determine if other NMFS program requirements (e.g., Tuna Tracking and Verification Program, Seafood Import Monitoring Program) or other agency requirements (e.g., Fish and Wildlife Service, State Department, Food and Drug Administration) have Automated Commercial Environment (ACE) data reporting requirements applicable to the HTS codes identified in Table 1 as subject to certification under the MMPA import provisions. In such cases, the other reporting requirements still pertain in addition to the Certification of Admissibility requirements imposed to effectuate the court order and this action.

Until such time as the import restrictions imposed by this action are lifted or revised, trade restrictions on these products harvested by gillnets in the UGC of Mexico within the vaquita's range or associated with the fisheries for which a comparability finding has been revoked will continue and Certification of Admissibility will be required for the HTS codes listed in this notice.

Authority: 16 U.S.C. 1361 et seq.

Dated: March 3, 2020.
Samuel D. Rauch III,
Deputy Assistant Administrator for Regulatory Programs, National Marine Fisheries Service.

[FR Doc. 2020-04692 Filed 3-4-20; 4:15 pm]

BILLING CODE 3510-22-P